DEPARTMENT OF COMMERCE

Foreign-Trade Zones Board

[B-33-2021]

Foreign-Trade Zone (FTZ) 293—Limon, Colorado; Authorization of Production Activity; Kaiser Premier LLC (Special Purpose Vehicles), Fort Morgan, Colorado

On April 19, 2021, the Town of Limon, Colorado, grantee of FTZ 293, submitted a notification of proposed production activity to the FTZ Board on behalf of Kaiser Premier LLC, within Subzone 293A, in Fort Morgan, Colorado.

The notification was processed in accordance with the regulations of the FTZ Board (15 CFR part 400), including notice in the Federal Register inviting public comment (86 FR 22932, April 30, 2021). On August 17, 2021, the applicant was notified of the FTZ Board's decision that no further review of the activity is warranted at this time. The production activity described in the notification was authorized, subject to the FTZ Act and the FTZ Board's regulations, including Section 400.14.

Dated: August 17, 2021.
Elizabeth Whiteman,
Acting Executive Secretary.

[FR Doc. 2021-17853 Filed 8-19-21; 8:45 am]

BILLING CODE 3510-DS-P